DEPARTMENT OF HOMELAND SECURITY

[Docket No. DHS-2010-0004]

Communications Unit Leader Prerequisite and Evaluation

AGENCY: National Protection and Programs Directorate, DHS.

ACTION: 30-day notice and request for comments; New Information Collection Request: 1670—NEW.

SUMMARY: The Department of Homeland Security (DHS), National Protection and Programs Directorate (NPPD), Cybersecurity and Communications (CS&C), Office of Emergency Communications (OEC) will submit the following information collection request to the Office of Management and Budget (OMB) for review and clearance in accordance with the Paperwork Reduction Act of 1995 (Pub. L. 104-13, 44 U.S.C. Chapter 35). DHS is soliciting comments concerning New Information Collection Request, Communications Unit Leader (COML) Prerequisite and Evaluation. DHS previously published this information collection request in the Federal Register on February 3, 2010, at 75 FR 5608-5609, for a 60-day public comment period. DHS received no comments. The purpose of this notice is to allow an additional 30 days for public comments.

DATES: Comments are encouraged and will be accepted until April 18, 2011. This process is conducted in accordance with 5 CFR 1320.10.

ADDRESSES: Interested persons are invited to submit written comments on the proposed information collection to the OMB Office of Information and Regulatory Affairs. Comments should be addressed to the OMB Desk Officer, Department of Homeland Security, Office of Civil Rights and Civil Liberties. Comments must be identified by DHS-2010-0004 and may be submitted by one of the following methods:

• Federal eRulemaking Portal: http://www.regulations.gov.

• E-mail: oira_submission@omb.eop.gov. Include the docket number in the subject line of the message.

• Fax: (202) 395-5806

Instructions: All submissions received must include the words “Department of Homeland Security” and the docket number for this action. Comments received will be posted without alteration at http://www.regulations.gov, including any personal information provided.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: If additional information is required contact: DHS/NPPD/CS&C/OEC, Richard Reed, (202) 343-1666, Richard.E.Reed@dhs.gov.

SUPPLEMENTARY INFORMATION: OEC, formed under Title XVIII of the Homeland Security Act of 2002, 6 U.S.C. 101 et seq., as amended, is responsible for conducting nationwide outreach and providing technical assistance to foster the development of interoperable emergency communications capabilities for state, regional, local, and tribal governments. OEC is addressing these responsibilities, in part, by offering an All Hazards Type III Communications Unit Leader (COML) training course for state, regional, local, and tribal emergency response stakeholders. Participation in these courses requires satisfaction of several prerequisites, the completion of which will be verified using a certification form. In addition, to evaluate course delivery for quality assurance and improvement purposes, evaluation data will be collected in an evaluation form. OEC will use the evaluation form to identify course attendees, verify satisfaction of course prerequisites, and to evaluate course delivery for quality and improvement purposes. The collection of information is mostly electronic, but can also be received in paper form, to facilitate ease of registration and evaluation of OEC events. Evaluation forms will be available in hard copy at each training session, and time will be provided to complete the evaluation at the conclusion of the course.

The information provided in the “Analysis” section of the 60-day notice dated February 3, 2010, at 75 FR 5608-5609, has been updated below to reflect the correct burden hours/costs per instrument versus the total burden hours/costs for the entire information collection request with the Total Burden Cost (operating/maintaining) for the entire collection increasing from the initial reported cost of $48,840 to $49,084.

Analysis

Agency: Department of Homeland Security, National Protection and Programs Directorate.

Title: COML Prerequisite and Evaluation.

OMB Number: 1670—NEW.

COML Prerequisites Verification

Frequency: On occasion.

Affected Public: State, local, or tribal government.

Number of Respondents: 3,000.

Estimated Time Per Respondent: 15 minutes.

Total Burden Hours: 750 annual burden hours.

Total Burden Cost (capital/startup): $0.

Total Burden Cost (operating/maintaining): $18,315.

COML Train the Trainer Prerequisites Verification

Frequency: On occasion.

Affected Public: State, local, or tribal government.

Number of Respondents: 3,000.

Estimated Time Per Respondent: 15 minutes.

Total Burden Hours: 750 annual burden hours.

Total Burden Cost (capital/startup): $0.

Total Burden Cost (operating/maintaining): $18,315.

Type III Communications Unit Leader (COML) Course Evaluation

Frequency: On occasion.

Affected Public: State, local, or tribal government.

Number of Respondents: 3,000.

Estimated Time Per Respondent: 10 minutes.

Total Burden Hours: 510 annual burden hours.

Total Burden Cost (capital/startup): $0.

Total Burden Cost (operating/maintaining): $12,454.

Dated: March 3, 2011.
David Epperson,
Chief Information Officer, National Protection and Programs Directorate, Department of Homeland Security.

[FR Doc. 2011-6038 Filed 3-16-11; 8:45 am]

BILLING CODE 9110-9P-P